DEPARTMENT OF HOMELAND SECURITY

National Protection and Programs Directorate, Office of Infrastructure Protection, Submission for Review Chemical Security Assessment Tool (CSAT) Information Collection 1670-0007

AGENCY: National Protection and Programs Directorate, DHS.

ACTION: 60-Day Notice and request for comments: Revision of an existing information collection request 1670-0007, DHS Forms 9010, 9002, 9007, 9012, and 9015.

SUMMARY: The Department of Homeland Security, Office of the Under Secretary for National Protection and Programs Directorate, Office of Infrastructure Protection, Chemical Security Compliance Division (CSCD) has submitted the following information collection request (ICR) to the Office of Management and Budget (OMB) for review and clearance in accordance with the Paperwork Reduction Act of 1995.

DATES: Comments are encouraged and will be accepted until January 22, 2008. This process is conducted in accordance with 5 CFR 1320.1.

ADDRESSES: Comments and questions about this Information Collection Request should be forwarded to the Office of Infrastructure Protection, Attn: Matthew Bettridge, Department of Homeland Security, NPPD/OIP/CSCD Mail Stop 8100, DHS, Washington, DC 20528.

FOR FURTHER INFORMATION CONTACT: Office of Infrastructure Protection, Attn: Matthew Bettridge, Department of Homeland Security, NPPD/OIP/CSCD Mail Stop 8100, DHS, Washington, DC 20528.

SUPPLEMENTARY INFORMATION: Section 550 of the Department of Homeland Security Appropriations Act of 2007, Pub. L. 109-295 (Section 550), directed the Department of Homeland Security to promulgate and enforce regulations to enhance the security of the nation's high risk chemical facilities. On April 9, 2007, the Department issued an Interim Final Rule, implementing this statutory mandate. (72 FR 17688). Section 550 requires a risk-based approach to security. To facilitate this approach, the Department is employing a risk assessment methodology known as the Chemical Security Assessment Tool (CSAT). The CSAT is a series of public web-based computer applications: Help Desk, User Registration, Top-Screen, Security Vulnerability Assessment, Site Security Plan, and Chemical-terrorism Vulnerability Information (CVI) Authorization. All information collected supports the Department's effort to reduce the risk of a successful terrorist attack against chemical facilities. These CSAT collections either directly or indirectly support the identification of high risk facilities, the determination of the risk tiers of the facilities, the review and approval of assessments and plans for security measures at the facilities, and/or the protection of Chemical-terrorism Vulnerability Information that would, if disclosed, substantially assist terrorists in planning and targeting the facilities.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, Office of the Under Secretary for National Protection and Programs Directorate, Office of Infrastructure Protection, Chemical Security Compliance Division.

Title: Chemical Security Assessment Tool (CSAT).

OMB Number: 1670-0007.

Help Desk—(DHS Form 9010)

Frequency: On Occasion.

Affected Public: Chemical Sector Facility owners and operators; general public.

Number of Respondents: 20,800 phone calls & 1,300 e-mails annually.

Estimated Time Per Respondent: 10 minutes per phone call & 15 min. per e-mail.

Total Burden Hours: 3,467 hours for calls & 325 hours for e-mail = 3,792 annual hours.

Total Burden Cost (capital/startup): $0.00.

Total Burden Cost (operating/maintaining): $304,408 phone calls & $28,538 e-mails = $332,946 total annual cost.

User Registration—(DHS Form 9002)

Frequency: On Occasion.

Affected Public: Chemical Sector Facility owners and operators.

Number of Respondents: 16,667.

Estimated Time Per Respondent: 1 hour.

Total Burden Hours: 16,667.

Total Burden Cost (capital/startup): $0.00.

Total Burden Cost (operating/maintaining): $1,463,499.

Top-Screen—(DHS Form 9007)

Frequency: On Occasion.

Affected Public: Chemical Sector Facility owners and operators.

Number of Respondents: 16,667.

Estimated Time Per Respondent: 30 Hours.

Total Burden Hours: 505,314 Hours Annually.

Total Burden Cost (capital/startup): $0.00.

Total Burden Cost (operating/maintaining): $44,371,535.

CVI User Training—(DHS Form 9012)

Frequency: Once.

Affected Public: Chemical Sector Facility owners and operators.

Number of Respondents: 16,667.

Estimated Time Per Respondent: 30 minutes.

Total Burden Hours: 8,333 annually.

Total Burden Cost (capital/startup): $0.00.

Total Burden Cost (operating/maintaining): $731,750.

Security Vulnerability Assessment—(DHS Form 9015) and Alternative Security Program in lieu of SVA

Frequency: On Occasion.

Affected Public: Chemical Sector Facility owners and operators.

Number of Respondents: 2,500 annually.

Estimated Time Per Respondent: 153 hours.

Total Burden Hours: 382,269 annually.

Total Burden Cost (capital/startup): $0.00.

Total Burden Cost (operating/maintaining): $34,786,190 annually.

Site Security Plan (SSP) and Alternative Security Program in lieu of SSP

Frequency: On Occasion.

Affected Public: Chemical Sector Facility owners and operators.

Number of Respondents: 2,167.

Estimated Time Per Respondent: 84 hours.

Total Burden Hours: 183,036.

Total Burden Cost (capital/startup): $0.00.

Total Burden Cost (operating/maintaining): $14,594,411.

Dated: November 15, 2007.
Charlie Church,
Chief Information Officer, National Protection and Programs Directorate, Department of Homeland Security.

[FR Doc. E7-22858 Filed 11-21-07; 8:45 am]

BILLING CODE 4410-10-P